DEPARTMENT OF ENERGY

Federal Energy Regulatory Commission

Sunshine Act Meeting; Notice of Change in Commission Meeting

January 27, 2000.

Take notice that, pursuant to Section 3(e)(2) of the Government in the Sunshine Act, 5 U.S.C. 552b(e)(2), and Section 375.204(a)(3) of the Commission's Regulations 18 CFR 375.204(a)(3), Commission meeting previously scheduled for Wednesday, January 26, 2000, at 10 a.m., Room 2C, 888 First Street, NE, Washington, DC 20426, has been rescheduled for 11 a.m. on Thursday, January 27, 2000, due to the closure of all Federal Government Offices in Washington, DC on January 25 and 26, 2000.

David P. Boergers
Secretary,

[FR Doc. 00-2058 Filed 1-27-00; 11:37 am]

BILLING CODE 6717-01-M